AGENCY FOR INTERNATIONAL DEVELOPMENT

Notice of Meeting

Pursuant to the Federal Advisory Committee Act, notice is hereby given of a meeting of the Advisory Committee on Voluntary Foreign Aid (ACVFA).

Date: May 22, 2002 (8:45 a.m. to 5 p.m.)

Location: George Washington University, Marvin Center, 800 21st Street, NW., Washington, DC.

This meeting will feature discussion of development financing and the Millennium Challenge Account (the President's New Compact for Development). Participants will have an opportunity to ask questions of the speakers and to discuss the issues in more depth in small groups.

The meeting is free and open to the public. Persons wishing to attend the meeting can fax or e-mail their name to Larritus Jackson, 202-347-9212, pvcsupport@datexinc.com.

Dated: April 15, 2002.
Noreen O'Meara,
Executive Director, Advisory Committee on Voluntary Foreign Aid (ACVFA).

[FR Doc. 02-9783 Filed 4-19-02; 8:45 am]

BILLING CODE 6116-01-M